DEPARTMENT OF THE INTERIOR

National Park Service

[NPS-WASO-NAGPRA-NPS0035187; PPWOCRADN0-PCU00RP14.R50000]

Notice of Inventory Completion: William S. Webb Museum of Anthropology, University of Kentucky, Lexington, KY

AGENCY: National Park Service, Interior.

ACTION: Notice.

SUMMARY: In accordance with the Native American Graves Protection and Repatriation Act (NAGPRA), the William S. Webb Museum of Anthropology, University of Kentucky (WSWM) has completed an inventory of human remains and associated funerary objects and has determined that there is a cultural affiliation between the human remains and associated funerary objects and Indian Tribes or Native Hawaiian organizations in this notice. The human remains and associated funerary objects were removed from: Breathitt, Carroll, Floyd, Franklin, Greenup, Jessamine, Johnson, Lewis, Nicholas, Perry, and Scott Counties, KY.

DATES: Repatriation of the human remains and associated funerary objects in this notice may occur on or after March 1, 2023.

ADDRESSES: Celise Fricker, William S. Webb Museum of Anthropology, University of Kentucky, 1020 Export Street, Lexington, KY 40504, telephone (859) 257-5124, email celise.fricker@uky.edu.

SUPPLEMENTARY INFORMATION: This notice is published as part of the National Park Service's administrative responsibilities under NAGPRA. The determinations in this notice are the sole responsibility of the WSWM. The National Park Service is not responsible for the determinations in this notice. Additional information on the determinations in this notice, including the results of consultation, can be found in the inventory or related records held by the WSWM.

Description

Human remains representing, at minimum, three individuals were removed from site 15BR9 (Kragon) in Breathitt County, KY. The site was originally reported by W.R. Russell in 1932, followed by Phase I survey and limited excavation by contract archeologist C.W. McIlhany in 1986, during a survey of a coal company permit area, and by full excavation in 1987, by McIlhany for the coal company. A Fort Ancient determination for these human remains is based on C14 dates (840+/−50 BP) and the presence of Fort Ancient ceramic types. The 115 associated funerary objects are two biconical cannel coal beads, 13 tubular bone beads, 29 perforated turkey digits, 35 disk shell beads, 13 tubular shell beads, and 23 Marginella beads.

Human remains representing, at minimum, three individuals were removed from site 15CL16 in Carroll County, KY. In 1961, after a flood uncovered several graves near Little Kentucky River, these ancestral human remains were collected by Charles Johnson. Subsequently, Orin Breeck donated them to WSWM on behalf of Johnson. A Fort Ancient determination for these human remains is based on the limestone grave mortuary form and the presence of shell-tempered ceramics. The six associated funerary objects are two bone pins, one perforated bivalve (broken), one shell fragment, and two chunks of ochre.

Human remains representing, at minimum, two individuals were removed from site 15FD110 (Clark Rockshelter) in Floyd County, KY. The site was excavated by GAI Consultants in 2005-2006 during testing for the Equitrans Pipeline. A Fort Ancient determination for these human remains is based on C14 dating (Cal A.D. 1000-1180 and Cal A.D. 1280-1400). No associated funerary objects are present.

Human remains representing, at minimum, 10 individuals were removed from site 15FR101 (Capitol View) in Franklin County, KY. The site was surveyed by the Kentucky Heritage Council in 1989 and excavated by the Council in 1990. In December of 1991 and January of 1992, while being monitored during construction activities, seven burials, samples of material culture, and subsistence remains were collected from the site. A Fort Ancient determination for these human remains is based on the presence of wall-trench houses, limestone-shell-tempered ceramics, and narrow triangular projectile points, and on C14 dates of 590+/−50 BP; 570+/−60 BP. The three associated funerary objects are one large cannel-coal palette and two lots of corn kernels and cupules.

Human remains representing, at minimum, 26 individuals were removed from site 15GP1/15GP15 (Old Fort Village/Bentley/Lower Shawneetown) in Greenup County, KY. The site was excavated in 1938 by the University of Kentucky Museum of Anthropology under contract to the Works Progress Administration (WPA). A Fort Ancient determination for these human remains is based on the presence of mid-18th century Euro-American artifacts shell/limestone tempered ceramics, triangular projectile points, and disk pipes, and on a C14 date of 230±50. The 90 associated funerary objects are three ceramic jars, 42 ceramic sherds, 21 projectile points, four scrapers, one worked flint, one Steatite vasiform pipe, one bone atlatl, three bone drifts/gaming pieces, one copper fragment, three faunal bones, one conical pendant, seven pierced elk teeth, one brass pendant, and one animal tooth.

Human remains representing, at minimum, 56 individuals were removed from site 15GP3 (Fullerton Field) in Greenup County, KY. In 1926/1930, Lucien Beckner of the Kentucky Geological Survey and University of Kentucky Museum of Anthropology excavated the site during the development of the Fullerton Heights subdivision. A Fort Ancient determination for these human remains is based on the presence of shell/limestone-tempered ceramics, wall-trench houses, shell gorgets, and triangular projectile points. The 42 associated funerary objects are 25 bone beads, three marginella beads, 12 wolf jaws, one hematite celt, and one bear maxilla gorget.

Human remains representing, at minimum, one individual were removed from site 15JS7 (W.B. Buford Farm) in Jessamine County, KY. The site was excavated in 1934 by W.D. Funkhouser. A Fort Ancient determination for these human remains is based on mortuary style. No associated funerary objects are present.

Human remains representing, at minimum, eight individuals were removed from site 15JS16 (Hickman Water Treatment) in Jessamine County, KY. In 1971, University of Kentucky students conducted a salvage excavation at the site. A Fort Ancient determination for these human remains is based on the associated funerary objects. The 1,258 associated funerary objects are 558 6mm shell beads, 548 2mm shell beads, 45 tubular bone beads, two rolled copper beads, one wooden earspool covered with copper, one piece of copper with 20 disc shell beads and 53 tiny disc shell beads adhered, one copper stained string, one fragment of leather and textile shirt with 25 small/tiny shell beads adhering to remnants, one fragment of thin charred bark, and two chert flakes.

Human remains representing, at minimum, three individuals were removed from site 15JO14 (Mayo) in Johnson County, KY. In 1939, the site was excavated by the University of Kentucky Museum of Anthropology under contract to the WPA. A Fort Ancient determination for these human remains is based on the shell-tempered ceramics, the site plan, and a C14 date of 800±100 BP. The 13 associated funerary objects are five tubular bone beads, four bird wing clips/pendants, one chunk of limonite, one flint, one projectile point, and one broken base of a projectile point.

Human remains representing, at minimum, one individual were removed from site 15LW190 in Lewis County, KY. In 1990, the site was excavated by the University of Kentucky Program in Cultural Resource Assessment. A Fort Ancient determination for these human remains is based on the presence of shell-tempered ceramic types. The three associated funerary objects are one sherd, one deer bone, and one mussel shell.

Human remains representing, at minimum, 13 individuals were removed from site 15NI1 (Clay Mound) in Nicholas County, KY. In 1925, the site was excavated by W.S. Webb and the finds were donated to UKMA. A Fort Ancient determination for these human remains is based on the mound's construction and the presence of marine shell pendants and projectile points. The 1,071 associated funerary objects are one serrated projectile point, one bone hair pin, 865 shell beads, one large shell bead, 202 small snail shell beads, and one bone flaker.

Human remains representing, at minimum, two individuals were removed from site 15PE126 (Lead Branch Crematory) in Perry County, KY. In 1993, the site was excavated by Cultural Resources Analysts, Inc. A Fort Ancient determination for these human remains is based on C14 dates. No associated funerary objects are present.

Human remains representing, at minimum, two individuals were removed from site 15SC2 (W.S.Yates Farm) in Scott County, KY. In 1935, the site was excavated by University of Kentucky Museum of Anthropology staff. A Fort Ancient determination for these human remains is based on the ceramics, projectile points, and sandstone discs. No associated funerary objects are present.

Human remains representing, at minimum, five individuals were removed from 15SC3 (Singer Mound) in Scott County, KY. The ancestral human remains were donated by private collectors in 1978 and 1990. This mound is a well-known Fort Ancient village site. No associated funerary objects are present.

Human remains representing, at minimum, three individuals were removed from site 15SC227 in Scott County, KY. In 2000, after a burial was encountered during construction at the Great Crossing School, the site was excavated by the Scott County coroner and the Kentucky Archaeological Survey. A Fort Ancient determination for these human remains is based on the diagnostic pipes and projectile points. The 16 associated funerary objects are one ceramic elbow pipe, one limestone pipe, two projectile points, four biface fragments, six chert flakes, and two biface preforms.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, folklore, geographical, historical, linguistic, and oral traditional.

Determinations

Pursuant to NAGPRA and its implementing regulations, and after consultation with the appropriate Indian Tribes and Native Hawaiian organizations, the WSWM has determined that:

• The human remains described in this notice represent the physical remains of 138 individuals of Native American ancestry.

• The 2,617 objects described in this notice are reasonably believed to have been placed with or near individual human remains at the time of death or later as part of the death rite or ceremony.

• There is a relationship of shared group identity that can be reasonably traced between the human remains and associated funerary objects described in this notice and the Absentee-Shawnee Tribe of Indians of Oklahoma; Eastern Shawnee Tribe of Oklahoma; and the Shawnee Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 1, 2023. If competing requests for repatriation are received, the WSWM must determine the most appropriate requestor prior to repatriation. Requests for joint repatriation of the human remains and associated funerary objects are considered a single request and not competing requests. The WSWM is responsible for sending a copy of this notice to the Indian Tribes identified in this notice.

Authority: Native American Graves Protection and Repatriation Act, 25 U.S.C. 3003, and the implementing regulations, 43 CFR 10.9, 10.10, and 10.14.

Dated: January 18, 2023.
Melanie O'Brien,
Manager, National NAGPRA Program.

[FR Doc. 2023-01845 Filed 1-27-23; 8:45 am]

BILLING CODE 4312-52-P